DEPARTMENT OF HOMELAND SECURITY

Transportation Security Administration

[Docket No. TSA-2002-11334]

Extension of Agency Information Collection Activity Under OMB Review; Aviation Security Infrastructure Fee (ASIF) Records Retention

AGENCY: Transportation Security Administration (TSA), DHS.

ACTION: Notice.

SUMMARY: This notice announces that the Transportation Security Administration (TSA) has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on May 9, 2007, 72 FR 26417. The collection requires air carriers to retain any and all documents, records, or information related to the amount of the ASIF, including all information applicable to the carrier's calendar year 2000 security costs and information reasonably necessary to complete an audit.

DATES: Send your comments by October 9, 2007.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (571) 227-3588.

SUPPLEMENTARY INFORMATION:

Comments Invited

In accordance with the Paperwork Reduction Act of 1995, (44 U.S.C. 3501 et. seq.), an agency may not conduct or sponsor, and a person is not required to respond to a collection of information, unless it displays a valid OMB control number. The ICR documentation is available at http://www.reginfo.gov. Therefore, in preparation for submission for OMB clearance of the information collection discussed in this notice, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Information Collection Requirement

Title: Aviation Security Infrastructure Fee Records Retention (ASIF).

Type of Request: Extension of a currently approved collection.

OMB Control Number: 1652-0018.

Forms: NA.

Affected Public: Air Carriers.

Abstract: The Aviation Transportation and Security Act (ATSA) authorizes the Assistant Secretary of the Department of Homeland Security to set the ASIF provided the ASIF not exceed industry aggregate Calendar Year 2000 security expenditures nor exceed an individual carrier's Calendar Year 2000 security expenditures. Under 49 CFR Part 1511, carriers must retain any and all documents, records, or information related to the amount of the ASIF, including all information applicable to the carrier's calendar year 2000 security costs and information reasonably necessary to complete an audit. This requirement includes retaining the source information for the calendar year 2000 screening costs reported to TSA; the calculations and allocations performed to assign costs submitted to TSA; information and documents reviewed and prepared for the required independent audit; the accountant's working papers, notes, worksheets, and other relevant documentation used in the audit; and, if applicable, the specific information leading to the accountant's opinion, including any determination that the accountant could not provide an audit opinion.

Number of Respondents: 196.

Estimated Annual Burden Hours: An estimated 392 hours annually.

Issued in Arlington, Virginia, on August 30, 2007.
Fran Lozito,
Director, Business Management Office, Operational Process and Technology.

[FR Doc. E7-17571 Filed 9-5-07; 8:45 am]

BILLING CODE 9110-05-P